DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than October 4, 2019.

Interested persons are invited to submit written comments regarding the subject matter of the investigations to the Administrator, Office of Trade Adjustment Assistance, at the address shown below, not later than October 4, 2019.

The petitions filed in this case are available for inspection at the Office of the Administrator, Office of Trade Adjustment Assistance, Employment and Training Administration, U.S. Department of Labor, Room N-5428, 200 Constitution Avenue NW, Washington, DC 20210.

Signed at Washington, DC, this 9th day of September 2019.
Hope D. Kinglock,
Certifying Officer, Office of Trade Adjustment Assistance.

Appendix

107 TAA petitions instituted between 8/1/19 and 8/31/19

TA-W | Subject firm (petitioners) | Location | Date of institution | Date of petition
95030 | Catalina Marketing Inc. (State/One-Stop) | St. Louis, MO | 08/01/19 | 07/31/19
95031 | Cenveo Publisher Services (Workers) | Lancaster, PA | 08/01/19 | 07/31/19
95032 | First Call Resolution, LLC (State/One-Stop) | Roseburg, OR | 08/01/19 | 07/31/19
95033 | Shelton Turnbull (Workers) | Eugene, OR | 08/01/19 | 07/31/19
95034 | Transaction Network Services (State/One-Stop) | Reston, VA | 08/01/19 | 07/31/19
95035 | Adidas America, Inc. (State/One-Stop) | Portland, OR | 08/02/19 | 08/01/19
95036 | Can-Clay (State/One-Stop) | Cannelton, IN | 08/02/19 | 08/02/19
95037 | El Dorado Paper Bag Manufacturing Company, Inc. (State/One-Stop) | El Dorado, AR | 08/02/19 | 08/01/19
95038 | FrieghtCar America (State/One-Stop) | Roanoke, VA | 08/02/19 | 08/01/19
95039 | Lexington Lighting Group LLC (State/One-Stop) | East Providence, RI | 08/02/19 | 08/01/19
95040 | Mondi Bags USA, LLC (Company) | Pine Bluff, AR | 08/02/19 | 08/01/19
95041 | Newell Rubbermaid (State/One-Stop) | Winchester, VA | 08/02/19 | 08/01/19
95042 | Cedar America (State/One-Stop) | Mountain View, AR | 08/06/19 | 08/05/19
95043 | McAfee, LLC (State/One-Stop) | Hillsboro, OR | 08/06/19 | 08/05/19
95044 | Mitsubishi Heavy Industries Climate Control, Inc. (Company) | Franklin, IN | 08/06/19 | 08/05/19
95045 | Pharmaceutics International, Inc. (State/One-Stop) | Hunt Valley, MD | 08/06/19 | 08/05/19
95046 | Aluwind Inc. (Company) | Castle Rock, CO | 08/07/19 | 08/06/19
95047 | Atos IT Solutions and Services, Inc. at Xerox (Workers) | Webster, NY | 08/07/19 | 08/06/19
95048 | Tucker Powersports (State/One-Stop) | Fort Worth, TX | 08/07/19 | 08/05/19
95049 | Linear Ams (Workers) | Livonia, MI | 08/07/19 | 08/06/19
95050 | Selectra Industries Corporation (State/One-Stop) | Vernon, CA | 08/07/19 | 08/06/19
95051 | Alo Tennessee Inc. and Alo USA, Inc. (State/One-Stop) | Telford, TN | 08/08/19 | 08/07/19
95052 | AT&T Services, Inc. (State/One-Stop) | Schaumburg, IL | 08/08/19 | 08/06/19
95053 | Filson Company (State/One-Stop) | Seattle, WA | 08/08/19 | 08/06/19
95054 | Goodman Manufacturing Company LP—Daikin Group (State/One-Stop) | Fayetteville, TN | 08/08/19 | 08/07/19
95055 | LEDVANCE, LLC (Company) | Wilmington, MA | 08/08/19 | 08/07/19
95056 | Workforce Logiq (Workers) | Dallas, TX | 08/08/19 | 08/07/19
95057 | Congoleum Corporation (Company) | Trainer, PA | 08/09/19 | 08/09/19
95058 | Mesa Ingredient Corporation (State/One-Stop) | Clovis, NM | 08/09/19 | 08/08/19
95059 | JPMorgan Chase & Co. (Workers) | Columbus, OH | 08/12/19 | 08/10/19
95060 | Seneca Foods Corporation (State/One-Stop) | Sunnyside, WA | 08/12/19 | 08/09/19
95061 | United Steelworkers Luke Local 8-676 (Company) | Westernport, MD | 08/12/19 | 08/09/19
95062 | United Structures of America,Inc. (State/One-Stop) | Portland, TN | 08/12/19 | 08/09/19
95063 | Consolidated Metco, Inc. (Company) | Bryson City, NC | 08/13/19 | 08/12/19
95064 | Experian Services Corp. (State/One-Stop) | Costa Mesa, CA | 08/13/19 | 08/12/19
95065 | Futurewei Technologies, Inc. (Company) | Bellevue, WA | 08/13/19 | 08/12/19
95066 | Hotelbeds (State/One-Stop) | Altamonte Springs, FL | 08/13/19 | 08/12/19
95067 | Liberty Mutual Group Inc. (Workers) | Allentown, PA | 08/13/19 | 08/12/19
95068 | Matthew-Warren Spring Division (Union) | Logansport, IN | 08/13/19 | 08/12/19
95069 | Newell Brands (Sunbeam Products, Inc.) (Workers) | McMinnville, TN | 08/13/19 | 08/12/19
95070 | Alsico (State/One-Stop) | Kent, OH | 08/14/19 | 08/13/19
95071 | CGI Technologies (State/One-Stop) | Fairfax, VA | 08/14/19 | 08/13/19
95072 | General Motors Metal Center (Union) | Pontiac, MI | 08/14/19 | 08/05/19
95073 | iQor (State/One-Stop) | Klamath Falls, OR | 08/14/19 | 08/13/19
95074 | Pace Industries (State/One-Stop) | Arden Hills, MN | 08/14/19 | 08/13/19
95075 | Schneider Electric (State/One-Stop) | Peru, IN | 08/14/19 | 08/13/19
95076 | Bank of New York Mellon (State/One-Stop) | Uniondale, NY | 08/15/19 | 08/15/19
95077 | Amerimax Coated Products, Inc. (State/One-Stop) | Helena, AR | 08/16/19 | 08/15/19
95078 | Briggs & Stratton Corporation (State/One-Stop) | Murray, KY | 08/16/19 | 08/15/19
95079 | La-Z-Boy (Company) | Newton, MS | 08/16/19 | 08/15/19
95080 | Lunar logic (State/One-Stop) | Eugene, OR | 08/16/19 | 08/15/19
95081 | Mueller Copper Tube Products, Inc. (State/One-Stop) | Wynne, AR | 08/16/19 | 08/15/19
95082 | S7 Sea Launch (State/One-Stop) | Long Beach, CA | 08/16/19 | 08/15/19
95083 | TE Connectivity (State/One-Stop) | Berwyn, PA | 08/16/19 | 08/15/19
95084 | HanesBrand, Inc. (State/One-Stop) | Clarksville, AR | 08/19/19 | 08/16/19
95085 | Schneider Electric IT USA, Inc. (State/One-Stop) | Costa Mesa, CA | 08/19/19 | 08/16/19
95086 | Teletrac Navman (State/One-Stop) | Garden Grove, CA | 08/19/19 | 08/16/19
95087 | Thomson Reuters (State/One-Stop) | Bellevue, WA | 08/19/19 | 08/12/19
95088 | Web.com (State/One-Stop) | Jacksonville, FL | 08/19/19 | 08/16/19
95089 | Bank of Montreal (State/One-Stop) | New York, NY | 08/20/19 | 08/19/19
95090 | Insight Global, LLC (State/One-Stop) | Atlanta, GA | 08/20/19 | 08/07/19
95091 | Kimberly-Clark Worldwide (State/One-Stop) | Fullerton, CA | 08/20/19 | 08/19/19
95092 | Littelfuse Inc. (State/One-Stop) | Orange, CA | 08/20/19 | 08/16/19
95093 | Norma Kamali Inc. (State/One-Stop) | New York, NY | 08/20/19 | 08/19/19
95094 | Cambria (State/One-Stop) | Le Sueur, MN | 08/21/19 | 08/20/19
95095 | Entergy-Pilgrim Power Plant (State/One-Stop) | Plymouth, MA | 08/21/19 | 08/20/19
95096 | Infor.com (State/One-Stop) | Saint Paul, MN | 08/21/19 | 08/20/19
95097 | Logic PD Inc. (State/One-Stop) | Montevideo, MN | 08/21/19 | 08/20/19
95098 | Profab Metal Products (State/One-Stop) | Lynn, MA | 08/21/19 | 06/24/19
95099 | United Health (State/One-Stop) | Johnston, RI | 08/21/19 | 08/20/19
95100 | Advantum Health (Workers) | Louisville, KY | 08/22/19 | 08/21/19
95101 | Georgia Pacific Crossett Facility (Union) | Crossett, AR | 08/22/19 | 08/21/19
95102 | Kaercher North America (State/One-Stop) | Camas, WA | 08/22/19 | 08/20/19
95103 | PPG (State/One-Stop) | Peru, IL | 08/22/19 | 08/21/19
95104 | Ricoh USA (Workers) | Malvern, PA | 08/22/19 | 08/21/19
95105 | Tomlinson Industries LLC (State/One-Stop) | Garfield Heights, OH | 08/22/19 | 08/21/19
95106 | Vesuvius Pittsburgh Research (Company) | Pittsburgh, PA | 08/22/19 | 08/21/19
95107 | Waterbury Screw Machine Products Company (State/One-Stop) | Waterbury, CT | 08/22/19 | 08/21/19
95108 | Mc Electronics (State/One-Stop) | Hollister, CA | 08/23/19 | 08/22/19
95109 | Pent Air Flow Technologies (State/One-Stop) | Costa Mesa, CA | 08/23/19 | 08/22/19
95110 | Stanley Black & Decker (State/One-Stop) | Georgetown, OH | 08/23/19 | 08/22/19
95111 | TE Connectivity (State/One-Stop) | Hemet, CA | 08/23/19 | 08/22/19
95112 | Walmart (Workers) | Charlotte, NC | 08/23/19 | 08/22/19
95113 | Walmart (Workers) | Charlotte, NC | 08/23/19 | 08/22/19
95114 | Yankee Candle Co., wholly owned subsidary of Newell Brands, Inc. (State/One-Stop) | South Deerfield, MA | 08/23/19 | 08/22/19
95115 | Team 10, LLC d/b/a American Eagle Mills (State/One-Stop) | Tyrone, PA | 08/26/19 | 08/23/19
95116 | Concentrix CVG Corporation (State/One-Stop) | Las Cruces, NM | 08/26/19 | 08/23/19
95117 | D & D Furniture (State/One-Stop) | Martinsville, VA | 08/26/19 | 08/23/19
95118 | Ocwen On Site Workers (Securitas, Williams Lea, Inc., CSSvSource) (State/One-Stop) | Waterloo, IA | 08/26/19 | 08/23/19
95119 | Riverbend Foods (Union) | Pittsburgh, PA | 08/26/19 | 08/23/19
95120 | Trelleborg (State/One-Stop) | El Segundo, CA | 08/26/19 | 08/23/19
95121 | Bank of the West (State/One-Stop) | Omaha, NE | 08/27/19 | 08/26/19
95122 | Conduent (Workers) | London, KY | 08/27/19 | 08/26/19
95123 | GP Strategies (State/One-Stop) | Columbia, MD | 08/27/19 | 08/26/19
95124 | Liberty Mutual Group Inc. (State/One-Stop) | Portland, OR | 08/27/19 | 08/26/19
95125 | Briggs & Stratton Corporation (Workers) | Murray, KY | 08/28/19 | 08/27/19
95126 | Cabinotch Innovative Solutions (State/One-Stop) | Salem, OR | 08/28/19 | 08/27/19
95127 | Conifer Revenue Cycle Solutions (State/One-Stop) | Des Moines, IA | 08/28/19 | 08/27/19
95128 | CSG Systems, Inc. (State/One-Stop) | Englewood, CO | 08/28/19 | 08/27/19
95129 | Farwest Steel Corporation (State/One-Stop) | Eugene, OR | 08/28/19 | 08/27/19
95130 | Intellectual Property Services, Inc. (Workers) | Erie, PA | 08/28/19 | 08/27/19
95131 | Jewell Manufacturing LLC (State/One-Stop) | Portland, OR | 08/28/19 | 08/27/19
95132 | Welocalize, Inc. (State/One-Stop) | Portland, OR | 08/28/19 | 08/27/19
95133 | Artelye Marble & Granite (State/One-Stop) | Beltsville, MD | 08/29/19 | 08/26/19
95134 | Johnson Control (Workers) | Westminster, MA | 08/29/19 | 08/28/19
95135 | Continental Powertrain USA, LLC (Company) | Fountain Inn, SC | 08/30/19 | 08/29/19
95136 | Watco Companies LLC (State/One-Stop) | Hollidaysburg, PA | 08/30/19 | 08/29/19

[FR Doc. 2019-20602 Filed 9-23-19; 8:45 am]

BILLING CODE 4510-FN-P